MILLENNIUM CHALLENGE CORPORATION

[MCC FR 21-08]

Report on Countries That Are Candidates for Millennium Challenge Account Eligibility in Fiscal Year 2022 and Countries That Would Be Candidates But for Legal Prohibitions

AGENCY: Millennium Challenge Corporation.

ACTION: Notice.

SUMMARY: The Millennium Challenge Act of 2003 requires the Millennium Challenge Corporation to publish a report that identifies countries that are “candidate countries” for Millennium Challenge Account assistance during fiscal year 2022. The report is set forth in full below.

(Authority: Section 608(a) of the Millennium Challenge Act of 2003, as amended, 22 U.S.C. 7701, 7707(a))

Dated: September 8, 2021.
Thomas G. Hohenthaner,
Acting VP/General Counsel and Corporate Secretary.

Report on Countries That Are Candidates for Millennium Challenge Compact Eligibility for Fiscal Year 2022 and Countries That Would Be Candidates But for Legal Prohibitions

Summary

This report to Congress is provided in accordance with section 608(a) of the Millennium Challenge Act of 2003, as amended, 22 U.S.C. 7701, 7707(a) (the Act).

The Act authorizes the provision of assistance for global development through the Millennium Challenge Corporation (MCC) for countries that enter into a Millennium Challenge Compact with the United States to support policies and programs that advance the progress of such countries to achieve lasting economic growth and poverty reduction. The Act requires MCC to take a number of steps in selecting countries with which MCC will seek to enter into a compact, including determining the countries that will be eligible countries for fiscal year (FY) 2022 based on (a) a country's demonstrated commitment to (i) just and democratic governance, (ii) economic freedom, and (iii) investments in its people, (b) the opportunity to reduce poverty and generate economic growth in the country, and (c) the availability of funds to MCC. These steps include the submission to the congressional committees specified in the Act and publication in the Federal Register of reports on the following:

• The countries that are “candidate countries” for FY 2022 based on their per capita income levels and their eligibility to receive assistance under U.S. law and countries that would be candidate countries but for specified legal prohibitions on assistance (section 608(a) of the Act);

• The criteria and methodology that the MCC Board of Directors (the Board) will use to measure and evaluate the relative policy performance of the “candidate countries” consistent with the requirements of subsections (a) and (b) of section 607 of the Act in order to determine “eligible countries” from among the “candidate countries” (section 608(b) of the Act); and

• The list of countries determined by the Board to be “eligible countries” for FY 2022, identification of such countries with which the Board will seek to enter into compacts, and a justification for such eligibility determination and selection for compact negotiation (section 608(d) of the Act).

This report is the first of three required reports listed above.

Candidate Countries for FY 2022

The Act requires the identification of all countries that are candidate countries for FY 2022 and the identification of all countries that would be candidate countries but for specified legal prohibitions on assistance. Under sections 606(a) and (b) of the Act, candidate countries must qualify as low income or lower middle income countries as defined in the Act.

Specifically, a country will be a candidate country in the low income category for FY 2022 if it

• has a per capita income that is not greater than the World Bank's lower middle income country threshold for such fiscal year ($4,095 gross national income per capita for FY 2022);

• is among the 75 countries identified by the World Bank as having the lowest per capita income; and

• is not ineligible to receive United States economic assistance under part I of the Foreign Assistance Act of 1961, as amended (the Foreign Assistance Act), by reason of the application of the Foreign Assistance Act or any other provision of law.

A country will be a candidate country in the lower middle income category for FY 2022 if it

• has a per capita income that is not greater than the World Bank's lower middle income country threshold for such fiscal year ($4,095 gross national income per capita for FY 2022);

• is not among the 75 countries identified by the World Bank as having the lowest per capita income; and

• is not ineligible to receive United States economic assistance under part I of the Foreign Assistance Act by reason of the application of the Foreign Assistance Act or any other provision of law.

Under section 606(c) of the Act as applied for FY 2022, a country with per capita income changes from FY 2021 to FY 2022 such that the country would be reclassified from the low income category to the lower middle income category or vice versa will retain its income status in its former category for FY 2022 and two subsequent fiscal years (FY 2023 and FY 2024). A country that has transitioned to the upper middle income category does not qualify as a candidate country.

Pursuant to section 606(d) of the Act, the Board identified the following countries as candidate countries under the Act for FY 2022. In so doing, the Board referred to the prohibitions on assistance to countries for FY 2021 under the Department of State, Foreign Operations, and Related Programs Appropriations Act, 2021 (Div. J., Pub. L. 116-94) (FY 2021 SFOAA).

Candidate Countries: Low Income Category

1. Afghanistan

2. Angola

3. Bangladesh

4. Benin

5. Bhutan

6. Bolivia

7. Burkina Faso

8. Burundi

9. Cabo Verde

10. Cameroon

11. Central African Republic

12. Chad

13. Congo, Democratic Republic of the

14. Congo, Republic of the

15. Côte d'Ivoire

16. Djibouti

17. Egypt

18. El Salvador

19. Eswatini

20. Gambia, The

21. Ghana

22. Guinea

23. Haiti

24. Honduras

25. India

26. Kenya

27. Kiribati

28. Kyrgyzstan

29. Laos

30. Lesotho

31. Liberia

32. Madagascar

33. Malawi

34. Mauritania

35. Mongolia

36. Morocco

37. Mozambique

38. Nepal

39. Niger

40. Nigeria

41. Pakistan

42. Papua New Guinea

43. Rwanda

44. Sao Tome and Principe

45. Senegal

46. Sierra Leone

47. Solomon Islands

48. Somalia

49. Tajikistan

50. Tanzania

51. Timor-Leste

52. Togo

53. Tunisia

54. Uganda

55. Ukraine

56. Uzbekistan

57. Vanuatu

58. Vietnam

59. Yemen

60. Zambia

Candidate Countries: Lower Middle Income Category

1. Algeria

2. Belize

3. Indonesia

4. Micronesia, Federated States of

5. Philippines

6. Samoa

Countries That Would Be Candidate Countries But for Legal Provisions That Prohibit Assistance

Countries that would be considered candidate countries for FY 2022 but are ineligible to receive United States economic assistance under part I of the Foreign Assistance Act by reason of the application of any provision of the Foreign Assistance Act or any other provision of law are listed below. This list is based on legal prohibitions against economic assistance that apply as of July 27, 2021.

Prohibited Countries: Low Income Category

• Burma is ineligible to receive foreign assistance, including due to concerns relative to its record on human rights and pursuant to the military coup restriction in section 7008 of the FY 2021 SFOAA.

• Cambodia is ineligible to receive foreign assistance pursuant to section 7043(b)(2) of the FY 2021 SFOAA, which restricts (with limited exceptions) assistance to the Government of Cambodia unless the Secretary of State certifies that the Government of Cambodia is taking effective steps to strengthen regional security and stability and respect the rights and responsibilities enshrined in the Constitution of the Kingdom of Cambodia.

• Comoros is ineligible to receive foreign assistance due to its status as a Tier 3 country under the Trafficking Victims Protection Act of 2000 (22 U.S.C. 7101 et seq.).

• Eritrea is ineligible to receive foreign assistance due to its human rights record and its status as a Tier 3 country under the Trafficking Victims Protection Act of 2000 (22 U.S.C. 7101 et seq.).

• Ethiopia is ineligible to receive foreign assistance due to its human rights record.

• Guinea-Bissau is ineligible to receive foreign assistance due to its status as a Tier 3 country under the Trafficking Victims Protection Act of 2000 (22 U.S.C. 7101 et seq.).

• Iran is ineligible to receive foreign assistance, including due to its status as a Tier 3 country under the Trafficking Victims Protection Act of 2000 (22 U.S.C. 7101 et seq.).

• Korea, North is ineligible to receive foreign assistance, including due to its status as a Tier 3 country under the Trafficking Victims Protection Act of 2000 (22 U.S.C. 7101 et seq.).

• Mali is ineligible to receive foreign assistance pursuant to the military coup restriction in section 7008 of the FY 2021 SFOAA.

• Nicaragua is ineligible to receive foreign assistance, including due to its status as a Tier 3 country under the Trafficking Victims Protection Act of 2000 (22 U.S.C. 7101 et seq.).

• South Sudan is ineligible to receive foreign assistance pursuant to section 7042(i)(2) of the FY 2021 SFOAA due to its human rights record.

• Sudan is ineligible to receive foreign assistance including due to the military coup restriction in section 7008 of the FY 2021 SFOAA.

• Syria is ineligible to receive foreign assistance due to its status as a Tier 3 country under the Trafficking Victims Protection Act of 2000 (22 U.S.C. 7101 et seq.).

• Zimbabwe is ineligible to receive foreign assistance, including pursuant to section 7042(k)(2) of the FY 2021 SFOAA, which prohibits (with limited exceptions) assistance for the central government of Zimbabwe unless the Secretary of State certifies and reports to Congress that the rule of law has been restored, including respect for ownership and title to property, and freedoms of expression, association, and assembly.

Prohibited Countries: Lower Middle Income Category

• Sri Lanka is ineligible to receive foreign assistance pursuant to section 7044(e)(2) of the FY 2021 SFOAA, which restricts (with limited exceptions) assistance for the central government unless the Secretary makes certain certifications regarding actions taken by the Government of Sri Lanka and reports to the Committees on Appropriations.

Countries identified above as candidate countries, as well as countries that would be considered candidate countries but for the applicability of legal provisions that prohibit U.S. economic assistance, may be the subject of future statutory restrictions or determinations, or changed country circumstances, that affect their legal eligibility for assistance under part I of the Foreign Assistance Act by reason of application of the Foreign Assistance Act or any other provision of law for FY 2022.

[FR Doc. 2021-19694 Filed 9-10-21; 8:45 am]

BILLING CODE 9211-03-P